SMALL BUSINESS ADMINISTRATION

C3 Capital Partners II, L.P. (License No. 07/07-0113); Notice Seeking Exemption Under 312 of the Small Business Investment Act, Conflicts of Interest

Notice is hereby given that C3 Capital Partners II, L.P., 4520 Main Street, Suite 1600, Kansas City, Missouri, 64111-7700, a Federal Licensee under the Small Business Investment Act of 1958, as amended (“the Act”), in connection with the financing of a small concern, has sought an exemption under section 312 of the Act and section 107.730, Financings Which Constitute Conflicts of Interest of the Small Business Administration (“SBA”) rules and regulations (13 CFR 107.730 (2008)). C3 Capital Partners II, L.P. proposes to provide loans to Clinical Research Investments, LLC, (holding company for Clinical Research Holding, LLC) 4520 Main St., Ste. 1600, Kansas City, MO 64111. The financing is contemplated for the acquisition of an Alabama based manager of clinical trials.

The financing is brought within the purview of Sec. 107.730(a)(1) of the Regulations because C3 Capital Partners, LP, an Associate of C3 Capital Partners II, L.P., currently owns greater than 10 percent of Clinical Research Investments, LLC, and therefore, Clinical Research Investments, LLC, is considered an Associate of C3 Capital Partners II as defined in Sec. 105.50 of the regulations.

Notice is hereby given that any interested person may submit written comments on the transaction, within 15 days, to the Associate Administrator for Investment, U.S. Small Business Administration, 409 Third Street, SW., Washington, DC 20416.

A. Joseph Shepard,
Associate Administrator for Investment.

[FR Doc. E8-10758 Filed 5-13-08; 8:45 am]

BILLING CODE 8025-01-P